DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 34465, dated June 9, 2010) is amended to reflect the substructure of the National Center for Emerging and Zoonotic Infectious Diseases, Office of Infectious Diseases, Centers for Disease Control and Prevention.

Section C-B, Organization and Functions, is hereby amended as follows:

After the title and functional statements for the National Center for Immunization and Respiratory Diseases (CVG), insert the following:

National Center for Emerging and Zoonotic Infectious Diseases (CVL). The National Center for Emerging and Zoonotic Infectious Diseases (NCEZID) works to prevent and control a broad range of infectious diseases through public leadership, partnerships, science, and systems. In carrying out these activities, NCEZID: (1) Works collaboratively across CDC and with external partners to conduct, coordinate, support, and evaluate public health efforts to prevent and minimize morbidity and mortality due to infectious diseases, promoting a One Health approach involving the interface of animal, human, and environmental factors; (2) develops, evaluates, and advances science, programs, management, and operations toward meeting the agency's infectious disease related mission and goals; (3) conducts epidemiologic and laboratory science and applied research aimed at identifying risk factors and disease burdens and developing and implementing public health programs, practices, and policies for infectious disease prevention and control; (4) works with domestic and global partners to provide technical and subject matter expertise in responding to outbreaks and in establishing, maintaining, and evaluating disease control and prevention programs; (5) supports a broad range of cross-cutting and collaborative programs aimed at enhancing public health capacity at the local, State, and national levels; (6) works to improve the quality and safety of healthcare through efforts to reduce healthcare associated infections and antimicrobial resistance and to ensure the safety of medical products, including vaccines; (7) conducts activities to improve the safety of food and water and reduce related enteric illnesses; (8) administers a national quarantine program to prevent U.S. importation and spread of infectious diseases; (9) works with CDC colleagues and external partners to improve public health preparedness at the local, State, and national levels; and (10) works to increase public health prevention efforts for populations at increased risk for infectious diseases.

Office of the Director (CVL1). (1) Provides leadership in developing, prioritizing, advancing, and evaluating the center's science, programs, management, and operations toward meeting agency mission and goals; (2) advises the CDC Director and Deputy Director for Infectious Diseases on priority issues affecting the center; (3) identifies and facilitates synergies within NCEZID, across CDC, and with external partners for addressing emerging and zoonotic infectious diseases domestically and globally; (4) enhances collaborations and partnerships across multiple disciplines, including human and animal health; (5) ensures scientific quality and ethical and regulatory compliance of center activities; (6) provides leadership, guidance, and technical assistance on policy and communication issues affecting the center; (7) serves as liaison with CDC counterparts, CDC/OD, other government agencies, and external partners on policy, program, legislative, communication, and budgetary issues related to NCEZID; (8) recruits and supports a strong center-wide workforce and builds leadership at the division and branch levels; (9) ensures that programmatic goals are achieved with measurable impact; and (10) ensures effective administrative services for NCEZID as well as effective cross-cutting scientific and program services for all CDC's infectious disease national centers.

Food Safety Office (CVL12). (1) Provides leadership in preventing and controlling foodborne illness by coordinating related activities within CDC and with other local, State, Federal, and international organizations; (2) directs the activities related to development of long-term NCEZID, OID, and CDC strategies, policies, and budgets for foodborne disease prevention activities; (3) allocates and tracks interagency resources within CDC for foodborne disease surveillance, outbreak response, applied research, education and training; (4) administers and tracks resources for foodborne disease prevention and control activities of State and local health departments and other organizations; (5) represents NCEZID and CDC programs and prevention policies in meetings with governmental, non-governmental, private, and international organizations; (6) reviews, prepares, and coordinates congressional testimony and briefing documents related to foodborne diseases, and analyzes programmatic and policy implications of legislative proposals; and (7) provides direction and administrative support to the World Health Organization (WHO) Collaborating Center for Foodborne Disease Surveillance.

Division of Foodborne, Waterborne, and Environmental Diseases (CVLB). The mission of the Division of Foodborne, Waterborne, and Environmental Diseases (DFWED) is to improve public health nationally and internationally through the prevention and control of disease, disability, and death caused by foodborne, waterborne, and environmentally-transmitted infections. In carrying out its mission, DFWED: (1) Conducts surveillance, investigations, and studies of foodborne bacterial diseases, waterborne bacterial and parasitic diseases, and mycotic diseases to define disease etiology and develop effective methods for diagnosis, prevention, and control; (2) conducts or participates in clinical, field, and laboratory research to develop, evaluate, and improve laboratory methodologies, materials, and therapeutic practices used for environmental detection, diagnosis, treatment, investigation, and control of foodborne bacterial diseases, waterborne bacterial and parasitic diseases, and mycotic diseases; (3) fosters and coordinates environmental microbiology research activities at CDC through the Environmental Microbiology Workgroup, partnerships, and advocacy activities to promote research on preventing infectious disease transmission from the environment to humans; (4) provides epidemic aid and epidemiologic consultation, upon request, to State and local health departments, other Federal agencies, and national and international health organizations; (5) provides reference/diagnostic services for foodborne bacterial diseases, waterborne bacterial and parasitic diseases, and mycotic diseases to State and local health departments, other Federal agencies, and national and international health organizations; (6) provides scientific and technical assistance to other CDC components when the work requires unique expertise or specialized equipment not available in other components; (7) provides intramural and extramural technical expertise and assistance in professional training and proficiency testing activities; (8) serves as appropriately designated national and international reference centers for various foodborne bacterial diseases, waterborne bacterial and parasitic diseases, and mycotic diseases and disease groups; and (9) develops clear health promotion strategies, campaigns, and messages to promote prevention.

Office of the Director (CVLB1). (1) Directs and manages the programs and activities of DFWED; (2) provides leadership and guidance on policy, program planning and development, program management, and operations; (3) coordinates or assures coordination with the appropriate CDC and NCEZID offices on administrative and program matters; (4) reviews, prepares, and coordinates congressional testimony and briefing documents related to foodborne bacterial diseases, waterborne bacterial and parasitic diseases, and mycotic diseases, and analyzes programmatic and policy implications of legislative proposals; (5) represents CDC and NCEZID programs and prevention policies in meetings with governmental, private, and international organizations; (6) advises CDC and NCEZID on policy matters concerning DFWED programs and activities; (7) provides statistical methodology and participates in the DFWED's outbreak investigations and disease reporting systems for ongoing surveillance; (8) develops new methods or adapts existing methods for statistical applications in epidemiologic or laboratory research studies for the division; (9) provides statistical consultation for epidemiologic and laboratory research studies conducted by the division; (10) assists researchers with statistical aspects of report writing and prepares statistical portions of papers, protocols, and reports written by staff of the division, and trains division professional staff in statistical methods; (11) provides oversight for CDC involvement in the WHO Global Foodborne Infections Network and training in food, water, and zoonotic infection control and prevention; and (12) provides subject matter expertise on environmental research, and promotes and coordinates related research activities at CDC and with collaborative partners.

Division of Global Migration and Quarantine (CVLC). (1) Administers a national quarantine program to protect the U.S. against the introduction of diseases from foreign countries and the transmission of communicable disease between states; (2) administers an overseas program for the medical examination of immigrants, refugees, and as necessary, other migrant populations destined for legal entry to the U.S., with inadmissible health conditions that would pose a threat to public health and impose a burden on public health and hospital facilities; (3) conducts surveillance, research, and prevention programs to prevent minimize morbidity and mortality among the globally mobile populations entering and leaving the U.S.; (4) maintains liaison with other Federal agencies, State and local health departments, and other stake holders, and provides information on global migration and quarantine matters to them; (5) provides liaison with international health organizations and participates in the development of international agreements affecting quarantine; (6) evaluates and provides technical support on the development and enforcement of policies necessary for implementation of Federal quarantine authority; (7) conducts studies to provide new information about health hazards abroad, measures for their prevention, and the potential threat of disease introduction into the U.S.; and (8) provides logistic support to other programs of the CDC in the distribution of requested biological agents and movement of biological specimens through U.S. ports of entry.

Office of the Director (CVLC1). (1) Manages, directs, and coordinates the activities of the division; (2) provides leadership in development of division policy, program planning, implementation, and evaluation; (3) identifies needs and resources for new initiatives and assigns responsibilities for their development; (4) coordinates liaison with other Federal agencies, State and local health departments, and interested industries; (5) coordinates liaison with international health organizations; and (6) reviews and evaluates all administrative services for both headquarters and quarantine stations and provides policy procedures and guidance on such matters.

Division of Healthcare Quality Promotion (CVLD). The mission of the Division of Healthcare Quality Promotion (DHQP) is to protect patients; protect healthcare personnel; and promote safety, quality, and value in both national and international healthcare delivery systems. In carrying out its mission, DHQP: (1) Measures, validates, interprets, and responds to data relevant to healthcare processes and outcomes, healthcare-associated infections, antimicrobial resistance, adverse drug events, and other related adverse events or medical errors in healthcare affecting patients and healthcare personnel; (2) investigates and responds to emerging infections and related adverse events among patients and healthcare providers, or others associated with the healthcare environment; (3) collaborates with academic and public health partners to design, develop, and evaluate the efficacy of interventions for preventing infections and reducing antimicrobial resistance, and related adverse events or medical errors; (4) develops and disseminates evidence-based guidelines and recommendations to prevent and control healthcare-associated infections/antimicrobial resistance, and related adverse events or medical errors; (5) promotes the nationwide implementation of Healthcare Infection Control Practices Advisory Committee (HICPAC) recommendations and other evidence based interventions to prevent healthcare-associated infections, antimicrobial resistance, and related adverse events or medical errors among patients and healthcare personnel; evaluates the impact of these recommendations and interventions across the spectrum of healthcare delivery sites; (6) monitors vaccine safety and conducts scientific research to evaluate the safety of all currently available and new vaccines; (7) develops, implements, and evaluates the effectiveness and impact of interventions to prevent transmission of healthcare-associated human immunodeficiency virus (HIV) and other bloodborne pathogen infections; (8) develops and evaluates diagnostic instruments and novel laboratory tests to detect and characterize antimicrobial-resistant bacterial pathogens and the infections that they cause; (9) promotes high standards of water quality in healthcare settings and tests and assures the water quality for CDC's infectious disease laboratories; (10) conducts epidemiologic, and basic and applied laboratory research to identify new strategies to prevent infections/antimicrobial resistance, and related adverse events or medical errors, especially those associated with medical or surgical procedures, indwelling medical devices, contaminated products, dialysis, and water; (11) establishes evidence-base for surface decontamination by performing laboratory research on methods for surface sampling detection of selected organisms related to preventing healthcare associated infections; (12) serves as the National Reference Laboratory for the identification and antimicrobial susceptibility testing of staphylococci, anaerobic bacteria, non-tuberculous mycobacterial, and those gram-negative bacilli causing healthcare associated infections; (13) develops and maintains the National Healthcare Safety Network (NHSN), a tool for monitoring healthcare-associated infections, measuring healthcare outcomes and processes, and monitoring healthcare worker vaccination and selected health measures in healthcare facilities; (14) continually assesses rates of infections caused by resistant-bacteria in the U.S. through active surveillance, review of national healthcare data sets, and laboratory surveillance programs; (15) promotes the integration of the healthcare delivery system in Federal/State/local public health preparedness planning; (16) coordinates activities, guidance, and research related to infection control across the agency and with national and international partners; (17) collaborates with other CDC Centers/Institute/Offices (CIO) and partners to assure quality clinical microbiology laboratory practices through proficiency testing, educational programs, and training of personnel; (18) trains Epidemic Intelligence Service Officers and other trainees; (19) coordinates antimicrobial resistance activities at CDC; (20) works in a national leadership capacity with public and private organizations to enhance antimicrobial resistance prevention and control, surveillance and response, and applied research; and (21) coordinates blood, organ, and other tissue safety at CDC.

Office of the Director (CVLD1). (1) Manages, directs, and coordinates the activities of the DHQP; (2) provides leadership and guidance on policy, communications/media, program planning and development, program management, and operations; (3) provides DHQP-wide administrative and program services and coordinates or ensures coordination with the appropriate CIOs and CDC staff offices on administrative and program matters; (4) provides liaison with other governmental agencies, international organizations, and other outside groups; (5) coordinates, in collaboration with the appropriate CIO and CDC components, global health activities relating to the prevention of healthcare-associated infections/antimicrobial resistance, and related adverse events or medical errors; (6) coordinates activities, guidance, emergency response, and research related to infection control in healthcare settings across the agency and with national and international partners; (7) works with other Federal agencies, State governments, medical societies, and other public and private organizations to promote collaboration and to integrate healthcare preparedness in Federal/State/local public health preparedness planning; (8) oversees the coordination of antimicrobial resistance activities at CDC; (9) represents CDC as co-chair of the Federal Interagency Task Force on Antimicrobial Resistance; (10) coordinates with other agencies, State governments, medical societies, and other public and private organizations to enhance antimicrobial resistance prevention and control, surveillance and response, and applied research; (11) leads CDC's activities on blood, organ, and other tissue safety; (12) represents CDC on the Advisory Committee on Blood Safety and Availability and the Advisory Committee on Organ Transplantation; (13) works with other Federal agencies, State governments, and other public and private organizations to enhance blood, organ, and other tissue safety through coordination of investigation, prevention, response, surveillance, applied research, health communication, and public policy; (14) provides program and administrative support for HICPAC; and (15) advises the Director, NCEZID, on policy matters concerning DHQP activities.

Immunization Safety Office (CVLD12). (1) Assesses the safety of vaccines received by children, adolescents and adults; (2) coordinates vaccine safety activities at CDC; (3) monitors safety of new and currently available vaccines; (4) coordinates and maintains the Vaccine Adverse Event Reporting System and Vaccine Safety Datalink; (5) leads CDC' s scientific research to evaluate the safety of all currently available and new vaccines; and (6) works with other Federal agencies, State governments, and other public and private organizations to assess and promote the safety of vaccines.

Division of High-Consequence Pathogens and Pathology (CVLE). The Division of High-Consequence Pathogens and Pathology (DHCPP) maximizes public health and safety nationally and internationally through the diagnosis, prevention, and control of disease, disability, and death caused by suspected and known viral, bacterial, prion, and related infections. In carrying out its mission, DHCPP: (1) Conducts surveillance, investigations, and studies of viral and bacterial diseases, including bioterrorism agents, as well as of transmissible spongiform encephalopathies, or prion diseases, and severe diseases of unknown, but suspected infectious etiology, to define their etiology and epidemiology, and to develop effective methods for diagnosis, treatment, control, and prevention; (2) conducts or participates in clinical, field, and laboratory research to develop, evaluate, and improve laboratory methods, materials, and therapeutic practices used for diagnosis, treatment, control, and prevention of viral, bacterial, and prion diseases, including bioterrorism agents; (3) conducts research on virus and bacterial transmission to develop effective control and prevention strategies and on vaccine effectiveness to assess prevention potential; (4) conducts laboratory, clinical, and epidemiologic studies of highly hazardous disease agents that require biosafety level 3 or biosafety level 4 security for their safe handling; (5) conducts ecological studies to develop and evaluate disease control and prevention measures; (6) provides epidemic aid, epidemiologic consultation, reference and diagnostic services, and technical assistance to State and local health departments, other Federal agencies, and national and international health organizations; (7) provides scientific and technical assistance to other CDC components when the work requires unique expertise or specialized equipment not available in other components; (8) provides routine and specialized laboratory training in the diagnosis, isolation, and characterization of viral and bacterial agents to personnel from State and local health departments and other national and international organizations; (9) provides training opportunities for EIS officers and others in CDC sponsored programs, including postgraduate students, postdoctoral fellows, and other public health and laboratory scientists; (10) provides expert pathological support for various infectious diseases to other groups at CDC, State and local health departments, other Office of Infectious Diseases (OID) components, and national and international organizations; and (11) serves as appropriately designated national and WHO Collaborating Centers for viral and bacterial diseases.

Office of the Director (CVLE1). (1) Directs and manages the programs and activities of DHCPP; (2) provides leadership and guidance on policy, program planning and development, program management, and operations; (3) coordinates or assures coordination with the appropriate CDC, OID, and NCEZID offices on administrative and program matters; (4) reviews, prepares, and coordinates congressional testimony and briefing documents related to high-consequence viral, bacterial, and prion diseases, and analyzes programmatic and policy implications of legislative proposals; (5) represents CDC, OID, and NCEZID programs and prevention policies in meetings with other governmental, private, and international organizations; (6) serves as CDC, OID, and NCEZID's primary internal and external communications contact regarding high consequence viral, bacterial, and prion disease issues; and (7) advises CDC, OID, and NCEZID on policy matters concerning DHCPP programs and activities.

Prion and Public Health Office (CVLE12). (1) Serves as the lead Federal office for monitoring the occurrence of human prion disease in the U.S.; (2) conducts epidemiological investigations, studies, and multiple methods of surveillance to increase understanding of human prion diseases and selected diseases of unknown etiology (e.g., Kawasaki syndrome) for the purpose of informing disease control policies; (3) facilitates the study of brain autopsies by skilled pathologists of clinically diagnosed and suspected cases of human prion disease in the U.S. to enable early recognition of the emergence of any new prion disease (e.g., variant Creutzfeldt-Jacob Disease and possibly human chronic wasting disease); (4) provides prion disease consultations to clinicians, State and local health departments, other Federal agencies, and national and international organizations, including epidemic aid support as needed; (5) disseminates information and advice to the public on preventing or reducing the negative public impacts of prion diseases and selected diseases of unknown etiology; (6) serves as a DHCPP statistical analysis unit, collaborating with and supporting studies, investigations, and surveillance activities of epidemiologists and laboratory researchers; (7) provides statistical consultations and collaborates with researchers on local, national, and international public health morbidity and mortality studies that require expertise in manipulating and understanding large public health datasets; and (8) provides statistical and epidemiologic training opportunities for EIS officers and other personnel in CDC sponsored programs.

One Health Office (CVLE13). (1) Serves as the agency focal point and provides the programmatic home for activities on One Health, an integrated approach to optimizing human and animal health that considers the interrelatedness among humans, animals, and their environments; (2) builds and organizes a portfolio of One Health activities, plans, and accomplishments and leads the efforts to promote and accomplish the activities through NCEZID and CDC programs and partnerships; (3) builds partnerships and facilitates collaboration both within and external to CDC; (4) manages and allocates NCEZID extra-budgetary resources from the Department of State/USAID, the Department of Defense/BTEP, the National Center for Environmental Health/Climate Change, and others, as appropriate; and (5) facilitates the exchange of information and enhances communication across disciplines by sponsoring visiting scientists and fellows, lectures, and meetings.

Division of Preparedness and Emerging Infections (CVLG). The Division of Preparedness and Emerging Infections (DPEI) works to build and strengthen public health capacity by enhancing the ability of CDC and its public health partners to prepare for, prevent, and respond to infectious diseases, including outbreaks, bioterrorism, and other public health emergencies, through cross-cutting and specialized programs, technical expertise, and public health leadership. In carrying out these activities, the DPEI: (1) Advocates for CDC programs, health departments, and other partners on issues related to emerging infections, bioterrorism, and public health resources; (2) develops and implements infectious disease surveillance, laboratory, and capacity building activities in collaboration with other CDC programs and external partners; (3) works with infectious disease programs on processes for developing, awarding, managing, and evaluating infectious disease grants and cooperative agreements; (4) provides scientific and programmatic leadership, as well as management, administrative, and technical support for broad infectious disease cooperative agreements such as the Emerging Infections Program (EIPs) and the Epidemiology and Laboratory Capacity for Infectious Diseases (ELC) program; (5) collaborates across CDC and with national and international partners to address the scientific and response planning and preparedness issues for bioterrorism, emerging infections, and other infectious disease emergencies; (6) provides the agency's initial rapid response capabilities (including 24 hour on-call emergency response coordination and epidemiologic and laboratory support) for bioterrorism and other infectious disease public health emergencies; (7) conducts, supports, and evaluates activities aimed at identifying and reducing risk factors for infectious diseases among residents of the Arctic and Subarctic regions; (8) maintains primary responsibility for development and management of the nation's Laboratory Response Network (LRN), including supporting the development, deployment, and quality control of diagnostic reagents for the LRN laboratories; (9) defines and promotes good laboratory practice standards, including providing consultation and training and improving communication and collaborations among public and private sector laboratories nationally and internationally; (10) serves as a primary screening laboratory for CDC for specimens that may contain threat agents; (11) analyzes the economic impact of infectious diseases in collaboration with other CDC infectious disease programs and collaborators outside the agency; (12) leads and coordinates infectious disease fellowships and training programs; (13) provides technical assistance and training on biosafety/biosecurity and bioterrorism agent detection and response to internal and external partners, including assistance with related public health and law enforcement investigations and planning for high profile national and international events; and (14) assists in medical countermeasures response and utilization coordination.

Office of the Director (CVLG1). (1) Manages, directs, and coordinates the activities of DPEI; (2) provides leadership and guidance on division policy, program planning, program management, and operations; (3) provides division-wide administrative and program services and ensures coordination with the appropriate CIO or staff offices on administrative and program matters; (4) provides liaison with other governmental agencies, international organizations, academic institutions and other outside groups; (5) ensures coordination of cross-cutting division activities with appropriate NCEZID divisions, the Office of Public Health Preparedness and Response, the Office of Surveillance, Epidemiology, and Laboratory Services (OSELS), and other CDC CIOs and offices; and (6) advises the NCEZID Director, the Deputy Director for Infectious Diseases, and leadership in other CDC units on division policy matters.

Division of Scientific Resources (CVLH). The Division of Scientific Resources (DSR) provides products, services, and specialized expertise to CDC staff and activities in support of research and service activities. In carrying out its mission, DSR: (1) Provides animals, laboratory supplies, animal and human blood products, glassware, mammalian tissue cultures, microbiological media, special reagents, and other laboratory materials in support of research and service activities to laboratories and investigators at CDC; (2) develops and implements applied research programs to expand and enhance the use of animal models necessary to support research and diagnostic programs and to improve breeding and husbandry procedures; (3) conducts applied research in cell biology and in the expansion of tissue culture technology as a research and diagnostic tool for infectious disease activities; (4) provides services for laboratory investigators in protein and DNA synthesis and sequencing, genomic sequencing, microarrays, proteomics, and molecular modeling; (5) maintains a bank of serum and other biological specimens of epidemiological and special significance to CDC's research and diagnostic activities; (6) obtains and distributes experimental and orphaned vaccines, drugs, antisera, antitoxins, and immune globulins; (7) manages and distributes the inventory, maintains the computerized system database, and provides general technical service support for the dispensing, lyophilizing, capping, and labeling of CDC reference reagents; (8) receives, triages, processes, and distributes specimens to CDC laboratories for reference diagnostic testing, research studies, and epidemics and reports diagnostic test results to submitting organizations; (9) manages all CDC exports and ensures compliance with regulations and serves as CDC liaison with Department of Commerce for export related issues; (10) produces and distributes specialized reagents and kits for the detection of select agents to members of the LRN; (11) provides services and expertise in development of quality systems to support compliance with the Food and Drug Administration regulations on production, distribution, and use of laboratory diagnostic reagents; (12) provides liaison activities, resources, and expertise for inquiries related to animals and zoonotic diseases; and (13) provides a centralized activity for tracking requests for and distributing select agents to investigators outside of CDC in compliance with Federal regulations.

Office of the Director (CVLH1). (1) Manages, directs, and coordinates the activities of DSR; (2) provides leadership and guidance on policy, budget, program planning and development, program management, and operations; (3) provides DSR wide administrative and program services and coordinates or ensures coordination with the appropriate CIOs OID, and CDC staff offices on administrative and program matters; (4) provides liaison with other governmental agencies, international organizations, and other outside groups; (5) coordinates, in collaboration with the appropriate CIOs, OID, and CDC components, laboratory activities relating to support of outbreak investigations or laboratory-based research including but not limited to specimen management, biological reagents, and laboratory supplies; (6) maintains a formulary of investigational and licensed drugs and biologicals that are distributed to approved physicians for the prevention, control, and/or treatment of rare, tropical, or exceptional diseases; (7) collaborates with CDC and external partners on research related to STD transmitted infections as chronic infectious diseases; and (8) advises the Director, NCEZID, on policy matters concerning DSR activities.

Division of Vector-Borne Diseases (CVLJ). (1) Conducts surveillance, investigations, and studies of vector-borne viral, rickettsial, and bacterial diseases to define disease etiology and to develop effective methods and strategies for diagnosis, prevention, and control; (2) conducts investigations on the biology, ecology, and control of arthropod vectors of viral, rickettsial, and bacterial diseases as a basis for development of new and/or modification of existing measures for more effective prevention and control; (3) conducts or participates in clinical, field, and laboratory studies to develop, evaluate, and improve laboratory methods, materials, and therapeutic practices used for diagnosis, prevention, and treatment of vector-borne infectious diseases; (4) provides epidemic aid and epidemiologic consultation, upon request, to State and local health departments, other Federal agencies, and national and international health organizations; (5) provides reference/diagnostic services for vector-borne viral, rickettsial, and bacterial diseases to State and local health departments, other Federal agencies, and national and international health organizations; (6) conducts research and collaborates on development and evaluation of vaccines; (7) provides scientific and technical assistance to other CDC components when the work requires unique expertise or specialized equipment not available in other components; (8) provides intramural and extramural technical expertise and assistance in professional training activities; and (9) serves as designated national and international reference centers for vector-borne viral, rickettsial, and bacterial diseases.

Office of the Director (CVLJ1). (1) Directs and manages the programs and activities of the Division of Vector-Borne Diseases (DVBD); (2) provides leadership and guidance on policy, program planning and development, program management, and operations; (3) coordinates or assures coordination with the appropriate CDC, OID, and NCEZID offices on administrative and program matters; (4) reviews, prepares, and coordinates congressional testimony and briefing documents related to vector-borne infectious diseases, and analyzes programmatic and policy implications of legislative proposals; (5) represents CDC and NCEZID in meetings with other governmental, private, and international organizations; (6) serves as CDC and NCEZID's primary internal and external communications contact regarding vector-borne infectious disease issues; and (7) advises CDC and NCEZID on policy matters concerning DVBD programs and activities.

Dated: July 9, 2010.
William P. Nichols,
Chief Operating Officer, Centers for Disease Control and Prevention.

[FR Doc. 2010-17794 Filed 7-22-10; 8:45 am]

BILLING CODE 4160-18-M